COMMODITY FUTURES TRADING COMMISSION

17 CFR Part 30

Foreign Futures and Options Transactions; Correction

AGENCY: Commodity Futures Trading Commission.

ACTION: Corrections to order.

SUMMARY: This document contains corrections to the Order that was published in the Federal Register of July 1, 2003 (68 FR 39006). The Order, issued pursuant to Commission Rule 30.10, granted an exemption to firms designated by the ASX Futures Exchange Proprietary Limited (“ASXF”) from the application of certain of the Commission's foreign futures and options rules based on substituted compliance with Australia's comparable regulatory and self-regulator regime.

EFFECTIVE DATE: August 6, 2003.

FOR FURTHER INFORMATION CONTACT:

Lawrence B. Patent, Esq., Deputy Director, Susan A Elliott, Esq., Staff Attorney, or Andrew V. Chapin, Esq., Staff Attorney, Division of Clearing and Intermediary Oversight, Commodity Futures Trading Commission, 1155 21st St., NW., Washington, DC 20581. Telephone: (202) 418-5430.

SUPPLEMENTARY INFORMATION:

Background

Commission Rule 30.4 requires that persons that solicit or accept orders, and funds related thereto, from customers located in the U.S. for trading on futures exchanges located outside the U.S. must register as futures commission merchants. Commission Rule 30.10 permits persons to petition for exemption from any Part 30 rule. Under Rule 30.10, the Commission has issued numerous orders to foreign futures exchanges that petition, on behalf of their members, for relief from compliance with the Commission's Part 30 rules based on the members' substituted compliance with their home country regulatory framework. The Commission's Order under Rule 30.10 as published in the Federal Register incorrectly identified the order recipient, ASXF, as the ASX Futures Exchange Party Limited. ASXF has informed the Commission that the abbreviation “Pty” stands for “Proprietary” and not “Party.”

Need for Correction

As published, the Order contains errors that may be misleading and need clarification.

Correction of Publication

Accordingly, the publication on July 1, 2003 of an Order, which was the subject of FR Doc. 03-16516, is correct as follows:

On page 39006, in the first column, in the Summary, line 5, and in the second column, in the Supplementary Information, second paragraph, line 3, the word “Party” is corrected to read “Proprietary” in both instances.

Issued in Washington, DC, on July 30, 2003 by the Commission.
Jean A. Webb,
Secretary of the Commission.

[FR Doc. 03-19948 Filed 8-5-03; 8:45 am]

BILLING CODE 6351-01-M